DEPARTMENT OF HEALTH AND HUMAN SERVICES

Centers for Disease Control and Prevention

[60Day-10-09AM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. Alternatively, to obtain a copy of the data collection plans and instrument, call 404-639-5960 and send comments to Maryam I. Daneshvar, CDC Reports Clearance Officer, 1600 Clifton Road NE., MS-D74, Atlanta, Georgia 30333; comments may also be sent by e-mail to omb@cdc.gov.

Comments are invited on (a) whether the proposed collection of information is necessary for the proper performance of the functions of the agency, including whether the information shall have a practical utility; (b) the accuracy of the agency's estimate of the burden of the proposed collection of information; (c) ways to enhance the quality, utility, and clarify of the information to be collected; and (d) ways to minimize the burden of the collection of information on respondents, including through the use of information technology. Written comments should be received within 60 days of this notice.

Proposed Project

Prevalence Survey of Healthcare Associated Infections (HAIs) and Antimicrobial Use in U.S. Acute Care Hospitals—New—National Center for Emerging and Zoonotic Infectious Diseases (NCEZID) (proposed), Centers for Disease Control and Prevention (CDC).

Background and Brief Description

CDC is requesting OMB approval to conduct two surveys to obtain national estimates of Healthcare Associated Infections (HAIs) prevalence and antimicrobial use in the United States. Preventing HAIs is a CDC priority, and an essential step in reducing the occurrence of HAIs is to accurately estimate the burden of these infections in U.S. hospitals and to describe the types of HAIs and their causative organisms, including antimicrobial-resistant pathogens.

The scope and magnitude of HAIs in the U.S. were last directly estimated in the 1970s and 1980s by CDC's Study on the Efficacy of Nosocomial Infection Control (SENIC), in which comprehensive data were collected from a sample of 338 hospitals; 5% of hospitalized patients acquired an infection not present at the time of admission. CDC's current HAI surveillance system, the National Healthcare Safety Network (NHSN) (OMB Control No. 0920-0666, expiration date 9/30/2012), focuses instead on device-associated and procedure-associated infections in a variety of patient locations, and does not receive data on all types of HAIs to make hospital-wide burden estimates. The purpose of this information collection request is to assess the magnitude and types of HAIs and antimicrobial use occurring in all patient populations within acute care hospitals in order to inform decisions made by local and national policy makers and hospital infection control personnel regarding appropriate targets and strategies for preventing HAIs and the emergence of antimicrobial- resistant pathogens and encouraging appropriate antimicrobial use. Such assessments can be obtained in periodic national prevalence studies, such as those that have been conducted in several European countries.

CDC proposes to conduct two surveys to collect this data. The first survey will be a limited roll-out survey and will be conducted in 30 facilities across 10 States in collaboration with State public health authorities and CDC's Emerging Infections Program (EIP). The survey will be conducted on a single day in participating facilities. Infection Control Practitioners in participating facilities, such as infection control personnel, will collect limited demographic and clinical information on a sample of eligible inpatients and, on the same day, EIP site personnel will collect information on HAIs and antimicrobial use for surveyed patients who are on antimicrobial therapy at the time of the survey. The second survey will involve 500 facilities across the same 10 States and use the same methodology. As with the first survey, CDC will collaborate with State public health authorities and EIP sites.

CDC will use the data provided to estimate the prevalence of HAIs and antimicrobial use across this sample of U.S. hospitals as well as to estimate the distribution of infection types, causative organisms, and nature of and rationale for antimicrobial use.

This proposed project supports CDC's Strategic Goal of “Healthy Healthcare Settings,” specifically the objectives to “Promote compliance with evidence-based guidelines for preventing, identifying, and managing disease in healthcare settings” and “Prevent adverse events in patients and healthcare workers in healthcare settings.” There are no costs to respondents, other than their time to complete the survey.

Estimate of Annualized Burden Hours
Respondents | Number of respondents | Number of responses per respondent | Average burden per response (in hours) | Total burden (in hours)
Infection Control Practitioners—Survey #1 | 30 | 83 | 5/60 | 208
EIP personnel—Survey #1 | 10 | 99 | 15/60 | 248
Infection Control Practitioners—Survey #2 | 500 | 83 | 5/60 | 3,458
EIP personnel—Survey #2 | 10 | 1650 | 15/60 | 4,125
Total |  |  |  | 8,039

Dated: January 22, 2010.
Maryam I. Daneshvar,
Reports Clearance Officer, Centers for Disease Control and Prevention.

[FR Doc. 2010-1653 Filed 1-26-10; 8:45 am]

BILLING CODE 4163-18-P